CORPORATION FOR NATIONAL AND COMMUNITY SERVICE

Availability of Funds for National Provider of Information and Training and Technical Assistance to Faith-Based and Small Community Organizations Using Service and Volunteerism as a Strategy to Meet Community Needs; Correction

AGENCY: Corporation for National and Community Service.

ACTION: Notice; Correction.

SUMMARY: The Corporation for National and Community Service (Corporation) published a document in the Federal Register of June 8, 2001, announcing the availability of funds for a national provider of information and training and technical assistance to faith-based and small community organizations using service and volunteerism as a strategy to meet community needs. The document contained an incorrect website address.

FOR FURTHER INFORMATION CONTACT: Arthurine Walker, Jim Ekstrom, or Christine Benero at the Corporation for National and Community Service, (202) 606-5000, extensions 423, 139, or 193; TTY (202) 565-2799; email awalker@cns.gov, or jekstrom@cns.gov, or cbenero@cns.gov.

Correction

In the Federal Register of June 8, 2001, in FR Doc 01-14402, on page 30889, in the first column, “www.etr/nsrc/org” should read “www.etr.org/nsrc”.

Dated: June 13, 2001.
George Gary Kowalczyk,
Coordinator, National Service Programs, Corporation for National and Community Service.

[FR Doc. 01-15280 Filed 6-15-01; 8:45 am]

BILLING CODE 6050-$$-P